DEPARTMENT OF ENERGY

Federal Energy Regulatory Commission

[Docket No. EL15-74-000]

Notice of Complaint

COALITION OF EASTSIDE NEIGHBORHOODS FOR SENSIBLE ENERGY (CENSE), a nonprofit Washington corporation; CITIZENS FOR SANE EASTSIDE ENERGY (CSEE), a nonprofit Washington corporation; LARRY G. JOHNSON and GLENNA F. WHITE, husband and wife; and STEVEN D. O'DONNELL, individually;

v.

PUGET SOUND ENERGY, a for-profit Washington corporation; SEATTLE CITY LIGHT, a public utility and department of the City of Seattle; BONNEVILLE POWER ADMINISTRATION, a federal agency and marketing agent for federally owned Northwest power facilities; and COLUMBIAGRID, a nonprofit Washington corporation,

Take notice that on June 9, 2015, Coalition of Eastside Neighborhoods for Sensible Energy (CENSE), Citizens for Sane Eastside Energy (CSEE), Larry G. Johnson, Glenna F. White, and Steven D. O'Donnell (Complainants) filed a formal complaint against Puget Sound Energy, Seattle City Light, Bonneville Power Administration, and ColumbiaGrid (Respondents) pursuant to Section 206 of the Federal Power Act and the Commission's rules thereunder, alleging that the Respondents have violated the Commission's Orders 890, 1000 and 2000, as well as violations of contractual obligations they have entered into with the Commission that incorporate provisions and policies set out in those Orders, and for violations of the terms of their Open Access Transmission Tariffs (OATTs). Complainants certify that copies of the complaint were served on the contacts for Puget Sound Energy and Bonneville Power Administration, as listed on the Commission's list of Corporate Officials, and on Seattle City Light's and ColumbiaGrid's chief administrative officers.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for electronic review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on June 29, 2015.

Dated: June 10, 2015.
Nathaniel J. Davis, Sr.,
Deputy Secretary.

[FR Doc. 2015-14895 Filed 6-16-15; 8:45 am]

BILLING CODE 6717-01-P